DEPARTMENT OF JUSTICE

Antitrust Division

Notice Pursuant to the National Cooperative Research and Production Act of 1993—Open Mobile Alliance

Notice is hereby given that, on January 25, 2006, pursuant to Section 6(a) of the National Cooperative Research and Production Act of 1993, 15 U.S.C. 4301 et seq. (“the Act”), the Open Mobile Alliance (“OMA”) filed written notifications simultaneously with the Attorney General and the Federal Trade Commission disclosing changes in its membership. The notifications were filed for the purpose of extending the Act's provisions limiting the recovery of antitrust plaintiffs to actual damages under specified circumstances. Specifically, ACE*COMM, Gaithersburg, MD; ASmobile Communications Inc., Taipei, Taiwan; BenQ Mobile, Munich, Germany; BND Co., Ltd., Buk-gu, Daegu, Republic of Korea; Celltick Technologies Ltd., Herzliya, Israel; Coretrust, Inc., Gangnam-gu, Seoul, Republic of Korea; Critical Path Inc., San Francisco, CA; DigiCAPS, Seocho-gu, Seoul, Republic of Korea, Edge Technologies, Inc., Fairfax, VA; Emtruce Technologies, Inc., Gangnam-Gu, Seoul, Republic of Korea; Fangtek, Ltd., Cpuertino, CA; Fenestrae BV, The Hague, Netherlands; Fraunhofer, IIS, Erlangen, Germany; KT Corporation, Seocho-gu, Seoul, Republic of Korea, Leadtone Wireless Ltd., Chaoyang District, Beijing, People's Republic of China; Linkuall-Alcomia, Bordeaux, France; Miengine Corp., Daechi-dong, Seoul, Republic of Korea, NETS, Gangnam-gu, Seoul, Republic of Korea; Newbay Software, Dublin, Ireland; Novarra, Itasca, IL; NTT Software Corporation, Mitaka-shi, Tokyo, Japan; Pacific DataVision, Inc., San Diego, CA; Plurimedia, Paris, France; PrismTech, Gagteshead, United Kingdom; Reigncom Ltd., Gangnam-gu, Seoul, Republic of Korea; RFI Global Services Ltd., Basingstoke, Hampshire, United Kingdom; SIPquest Inc., Kananta, Ontario, Canada, Smart Internet Technology, Eveleigh, Sydney, Australia; Softhis SP. z o.o., Krakow, Poland; Sonus Networks, Chelmsford, MA; Susteen Inc., Irvine, CA; Synapsy Mobile Network GmbH, Himmelstadt, Germany; Telespree Communications, San Francisco, CA; Tira Wireless, Toronto, Ontario, Canada; Trio Network Solutions Oy, Helsinki, Finland; Websync, Buk-gu, Daegu, Republic of Korea; and Yahoo! Inc., Sunnyvale, CA, have been added as parties to this venture.

Also, CAMEO InfoTech Inc., Hsinchu, Taiwan; Darts Technologies Corporation, Chung Ho, Taiwan; Finjurdata, Rotkreuz, Switzerland; Freescale Semiconductor, Austin, TX; Infocom, Tokyo, Japan; Integreat, Bergen op Zoom, Netherlands; InterOP Technologies, LLC, Fort Myers, FL; Intrado, Longmont, CO; LocatioNet, Netanya, Israel, Mobtime Inc., Chengdu, People's Republic of China; MontaVista Software, Sunnyvale, CA; Nextel Communications Inc., Rensteon, VA; Push Messenger, Courbevoie, France; Quasar Innovations Pvt. Ltd., Kormangala, Bangalore, India; SafeNet, Inc., Belcamp, MD; SGS Japan Inc., Hodogaya-ku, Yokahama, Japan; tcl & Alcatel Mobile Phones, Colombes Cedex, France; and Visto Corporation, Seattle, WA, have withdrawn as parties to this venture.

Also, Locus Technologies has changed its name to Inticube Corp., Seoul, Republic of Korea.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act of December 31, 1998 (63 FR 72333).

The last notification was filed with the Department on May 12, 2005. A notice was published in the Federal Register pursuant to Section 6(b) of the Act on August 30, 2005 (70 FR 51366).

Dorothy B. Fountain,
Deputy Director of Operations, Antitrust Division.

[FR Doc. 06-1453 Filed 2-15-06; 8:45 am]

BILLING CODE 4410-11-M